DEPARTMENT OF STATE

[Public Notice 5668]

Shipping Coordinating Committee; Notice of Meeting

The Shipping Coordinating Committee (SHC) will conduct an open meeting at 1 p.m. on Thursday, March 1, 2007, in Room 6319 of the United States Coast Guard Headquarters Building, 2100 2nd Street SW., Washington, DC 20593-0001. The primary purpose of the meeting is to continue preparations for the 50th Session of the International Maritime Organization (IMO) Sub-Committee on Stability and Load Lines and on Fishing Vessels Safety to be held at the International Coffee Organization in London, England from April 30 to May 4, 2007.

The primary matters to be considered include:

—Development of explanatory notes for harmonized SOLAS Chapter II-1;

—Revision of the Intact Stability Code;

—Passenger ship safety / Time dependent survivability;

—Guidance on the impact of open watertight doors on survivability;

—Safety of small fishing vessels;

—Development of options to improve effect on ship design and safety of the 1969 TM Convention;

—Guidelines for uniform operating limitations on high-speed craft;

—Review of the Special Purpose Ships (SPS) Code.

Members of the public may attend this meeting up to the seating capacity of the room. Interested persons may seek information by writing to Mr. Paul Cojeen, Commandant (CG-3PSE-2), U.S. Coast Guard Headquarters, 2100 Second Street, SW., Room 1308, Washington, DC 20593-0001 or by calling (202) 372-1372.

Dated: January 18, 2007.
Michael E. Tousley,
Executive Secretary, Shipping Coordinating Committee, Department of State.

[FR Doc. E7-997 Filed 1-23-07; 8:45 am]

BILLING CODE 4710-09-P